DEPARTMENT OF JUSTICE

Office of Community Oriented Policing Services; Agency Information Collection Activities; Proposed Collection; Comment Request

ACTION: Notice of information collection under review; COPS crime analysis units survey.

Office of Management and Budget (OMB) approval is being sought for the information collection listed below. This proposed information collection was previously published in the Federal Register and allowed 60 days for public comment.

The purpose of this notice is to allow an additional 30 days for public comments from the date listed at the top of this page in the Federal Register. This process is conducted in accordance with 5 Code of Federal Regulation, Part 1320.10.

Written comments and/or suggestions regarding the item(s) contained in this notice, especially regarding the estimated public burden and associated response time, should be directed to the COPS Office, PPSE Division, 1110 Vermont Ave., NW, Washington, DC 20530-0001; attn: Karen Beckman.

Additionally, comments may be submitted to COPS via facsimile to 202-633-1386, attn: Karen Beckman. Comments may also be submitted to the Department of Justice (DOJ), Justice Management Division, Information Management and Security Staff, Attention: Department Deputy Clearance Officer, Suit 1220, 1331 Pennsylvania Avenue NW, Washington, DC, 20530.

Written comments and suggestions from the public and affected agencies should address one or more of the following points:

(1) Evaluate whether the proposed collection of information is necessary for the proper performance of the functions of the agency/component, including whether the information will have practical utility;

(2) Evaluate the accuracy of the agency's/component's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

The proposed collection is listed below:

COPS Crime Analysis Units Survey

(1) Type of information collection: New Collection.

(2) The title of the form/collection: COPS Crime Analysis Units Survey.

(3) The agency form number, if any, and the applicable component of the Department sponsoring the collection: Form: COPS 034/01; Office of Community Oriented Policing Services, United States Department of Justice.

(4) Affected public who will be asked or required to respond, as well as a brief abstract: Representatives from police agencies with over 100 sworn personnel will be asked to respond (approximately 800). The COPS Crime Analysis Units Survey will collect basic information about the nature, extent, and quality of recipient's crime analysis capabilities.

The COPS office will use the information collected to assess whether crime analysis units provide analytic support systems that efficiently and accurately process data that define problems and help promote solutions. Data from the surveys will be used to produce a final technical report assessing the nature of crime analysis units, a summary of the findings and an easy-to-read guidebook to aid in the development and enhancement of crime analysis units.

(5) An estimate of the total number of respondents and the amount of time estimated for an average respondent to respond: Surveys will be administered by mail to approximately 800 law enforcement agencies with sworn forces over 100. Administrative preparation and survey completion will take approximately 0.75 hours per respondent (including record keeping).

(6) An estimate of the total public burden (in hours) associated with the collection: Approximately 600 hours.

Public comment on this proposed information collection is strongly encouraged. If additional information is required contact: Mrs. Brenda E. Dyer, Deputy Clearance Officer, United States Department of Justice, Information Management and Security Staff, Justice Management Division, Suite 1220, National Pace, 1331 Pennsylvania Avenue, NW, Washington, DC 20530.

Dated: March 16, 2000.
Brenda E. Dyer,
Department Deputy Clearance Officer, Department of Justice.

[FR Doc. 00-7044 Filed 3-22-00; 8:45 am]

BILLING CODE 4410-AT-M